DEPARTMENT OF DEFENSE

Office of the Secretary

[Transmittal No. 16-03]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 16-03 with attached Policy Justification and Sensitivity of Technology.

Dated: December 31, 2015.
Aaron Siegel,
Alternate OSD Federal Register Liaison Officer, Department of Defense.

BILLING CODE 5001-06-P

BILLING CODE 5001-06-C

Transmittal No. 16-03

Notice of Proposed Issuance of Letter of Offer Pursuant to Section 36(b)(l) of the Arms Export Control Act, as amended

(i) Prospective Purchaser: Government of France

(ii) Total Estimated Value:

Major Defense Equipment* | $355 million
Other | $295 million
TOTAL | $650 million

(iii) Description and Quantity or Quantities of Articles or Services under Consideration for Purchase:

Major Defense Equipment (MDE):

Two (2) C-130J aircraft with Rolls Royce AE-2100D Turboprop Engines

Two (2) KC-130J aircraft with Rolls Royce AE-2100D Turboprop Engines

Four (4) Rolls Royce AE-2100D Turboprop Engines (spares)

Non-Major Defense Equipment (Non-MDE):

Six (6) AN/ALE 47 Electronic Countermeasure Dispensers (1 per aircraft, plus 2 spares)

Six (6) AN/AAR-47A(V)2 Missile Warning Systems (1 per aircraft, plus 2 spares)

Six (6) AN/ALR-56M Radar Warning Receivers (1 per aircraft, plus 2 spares)

Ten (10) Embedded Global Positioning/Inertial Navigation Systems (2 per aircraft, plus 2 spares)

Ten (10) AN/ARC-210 Radios (2 per aircraft, plus 2 spares)

Ten (10) AN/ARC-164 UHF/VF Radios (2 per aircraft, plus 2 spares)

Two (2) HF Voice Radios

Ten (10) KY-100 Secure Voice Terminals (2 per aircraft, plus 2 spares)

Ten (10) KYV-5 Secure Voice Equipment Units (2 per aircraft, plus 2 spares)

Also provided are support and test equipment; publications and technical documentation; personnel training and training equipment; U.S. Government and contractor engineering, technical, and logistics support services; and other related elements of logistical and program support.

(iv) Military Department: Air Force (SAE)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 10 NOV 2015

*As defined in Section 47(6) of the Arms Export Control Act.

POLICY JUSTIFICATION

France—C-130J aircraft

The Government of France has requested a possible sale of:

Major Defense Equipment (MDE):

Two (2) C- 130J aircraft with Rolls Royce AE-2100D Turboprop Engines

Two (2) KC-130J aircraft with Rolls Royce AE-2100D Turboprop Engines

Four (4) Rolls Royce AE-2100D Turboprop Engines (spares)

Non-Major Defense Equipment (Non-MDE):

Six (6) AN/ALE 47 Electronic Countermeasure Dispensers (1 per aircraft, plus 2 spares)

Six (6) AN/AAR-47A(V)2 Missile Warning Systems (1 per aircraft, plus 2 spares)

Six (6) AN/ALR-56M Radar Warning Receivers (1 per aircraft, plus 2 spares)

Ten (10) Embedded Global Positioning/Inertial Navigation Systems (2 per aircraft, plus 2 spares)

Ten (10) AN/ARC-210 Radios (2 per aircraft, plus 2 spares)

Ten (10) AN/ARC-164 UHF/VF Radios (2 per aircraft, plus 2 spares)

Two (2) HF Voice Radios

Ten (10) KY-100 Secure Voice Terminals (2 per aircraft, plus 2 spares)

Ten (10) KYV-5 Secure Voice Equipment Units (2 per aircraft, plus 2 spares)

Also provided are support and test equipment; publications and technical documentation; personnel training and training equipment; U.S. Government and contractor engineering, technical, and logistics support services; and other related elements of logistical and program support. The estimated MDE value is $355 million. The total overall estimated value is $650 million.

This proposed sale will contribute to the foreign policy and national security of the United States by improving the capability of a NATO ally. It is vital to U.S. national interests to assist the French Air Force to increase its airlift, air refueling, and air drop capabilities. These aircraft will provide these capabilities and will be used to support national, NATO, United Nations, and other coalition operations. Providing these aircraft to the French Air Force will greatly increase interoperability between the U.S. Air Force and the French Air Force, as well as other NATO allies.

The C-130Js will provide critical transport, airdrop, and resupply to thousands of French troops in support of current and future operations. The KC-130Js will provide crucial air refueling capability to France's fighter aircraft, light transport aircraft, and helicopters. France will have no difficulty absorbing these aircraft into its armed forces.

The proposed sale of this equipment and support will not alter the basic military balance in the region.

France requests that Lockheed Martin be the sole source provider for the C-130J aircraft. There are no known offset agreements proposed in connection with this potential sale.

Implementation of this proposed sale may require multiple trips for U.S. contractor representatives to France and potentially to deployed locations to provide initial launch, recovery, and maintenance support.

Transmittal No. 16-03

Notice of Proposed Issuance of Letter of Offer Pursuant to Section 36(b)(1) of the Arms Export Control Act

Annex

Item No. vii

(vii) Sensitivity of Technology:

1. The AN/ALE-47 Counter-Measures Dispensing System (CMDS) is an integrated, threat-adaptive, software-programmable dispensing system capable of dispensing chaff, flares, and active radio frequency expendables. The threats countered by the CMDS include radar-directed anti-aircraft artillery (AAA), radar command-guided missiles, radar homing guided missiles, and infrared (IR) guided missiles. The system is internally mounted and may be operated as a stand-alone system or may be integrated with other on-board Electronic Warfare and avionics systems. The AN/ALE-47 uses threat data received over the aircraft interfaces to assess the threat situation and to determine a response. Expendable routines tailored to the immediate aircraft and threat environment may be dispensed using one of four operational modes. Hardware is UNCLASSIFIED. Technical data to include threat information files and documentation to be provided could be classified up to SECRET.

2. The AN/AAR-47 missile warning system is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (Cl). The set of OSC units, which normally consist of four, is mounted on the aircraft exterior to provide omni-directional protection. The OSC detects the rocket plume of missiles and sends appropriate signals to the CP for processing. The CP analyses the data from each OSC and automatically deploys the appropriate countermeasures. The CI displays the incoming direction of the threat, so that the pilot can take appropriate action. Hardware is UNCLASSIFIED. Technical data to include threat information files and documentation to be provided could be classified up to SECRET.

3. The AN/ALR-56M Advanced Radar Warning Receiver continuously detects and intercepts RF signals in certain frequency ranges and analyzes and separates threat signals from non-threat signals. It contributes to full-dimensional protection by providing individual aircraft probability of survival through improved aircrew situational awareness of the radar guided threat environment. The AN/ALR-56M is designed to provide improved performance in a dense signal environment and improved detection of modem threats signals. Hardware is UNCLASSIFIED. Technical data to include threat information files and documentation to be provided could be classified up to SECRET.

4. The AN/ARC-210 multi-mode integrated communications system family offers a two-way secure, jam-resistant, voice and data communications via line-of-sight or satellite communications links in the very high frequency (VHF) and ultra-high frequency (UHF) spectrum. The RT1794C provides frequency hopping (HAVE QUICK I/II), Single Channel Ground and Airborne Radio Systems (SINCGARS), and embedded COMSEC products. The RT-1556 transceiver is capable of establishing two-way communication links within tactical aircraft environments. The ARC-210 can be tailored for integration on many user platforms and its modular architecture enables addition of specific capabilities depending on user's needs. Hardware is UNCLASSIFIED. Technical data and documentation to be provided is UNCLASSIFIED.

5. The AN/ARC-164 is a modular, slice-constructed, solid-state, 10W UHF transmitter/receiver. It is standard equipment for the U.S. Air Force and U.S. Army with alternative console/panel mounts for each service, the RT-1168 and RT-1167 respectively. As well as MIL-STD-1553B and Have-Quick II, the latest AN/ARC-164 radios feature ANVIS Green A front panel lighting and an electronic fill port. The current AN/ARC-164 system is an F3 (Form, Fit, Function) replacement for older AN/ARC-164 systems and obsolete UHF radios such as the AN/ARC-51. This F3 replacement option eliminates platform Group A modification costs. Hardware is UNCLASSIFIED. Technical data and documentation to be provided is UNCLASSIFIED.

6. KYV-5 COMSEC Module and the Split Remote Control Unit (SRCU) provide narrowband secure voice and data capability and perform all COMSEC, operator control and indication functions. Designed to secure Naval and Joint Service narrowband half-duplex communications over HF, VHF, and UHF SATCOM radios. A SRCU is available for applications where the front panel controls are not accessible. This may include the FYV-5M variant, to remain up to date and interoperable with the most current NATO standard at the time of aircraft delivery. Hardware is UNCLASSIFIED. Technical data and documentation to be provided is SECRET.

7. The Advanced Narrowband Digital Voice Terminal (ANDVT) AIRTERM KY-100 is a piece of secure, tactical airborne terminal which provides secure transmission of voice and data over narrowband radio systems and provides an additional capability for transmission over wideband systems. AIRTERM is the airborne version of the MINTERM and is fully interoperable with the ANDVT family of equipment (MINTERM, KY-99A TACTERM AN/USC-43) and also with the VINSON (KY-57/58) equipment. This may include the KY-100M variant, to remain up to date and interoperable with the most current NATO standard at time of aircraft delivery. Hardware is UNCLASSIFIED. Technical data and documentation to be provided is SECRET.

8. If a technologically advanced adversary were to obtain knowledge of the specific hardware and software elements, the information could be used to develop countermeasures that might reduce weapon system effectiveness or be used in the development of a system with similar or advanced capabilities.

9. A determination has been made that the Government of France can provide substantially the same degree of protection for the sensitive technology being released as the United States Government. This sale is necessary in furtherance of the United States foreign policy and national security objectives outlined in the Policy Justification.

10. All defense articles and services listed in this transmittal have been authorized for release and export to the Government of France.

[FR Doc. 2015-33265 Filed 1-5-16; 8:45 am]

BILLING CODE 5001-06-P